DEPARTMENT OF COMMERCE

International Trade Administration

[A-201-836]

Light-Walled Rectangular Pipe and Tube From Mexico: Rescission of Antidumping Duty Administrative Review; 2012-2013

AGENCY: Enforcement and Compliance, formerly Import Administration, International Trade Administration, Department of Commerce.

DATES: January 23, 2014.

FOR FURTHER INFORMATION CONTACT: Patrick Edwards or Angelica Mendoza, AD/CVD Operations, Office VI, Enforcement and Compliance, International Trade Administration, U.S. Department of Commerce, 14th Street and Constitution Avenue NW., Washington, DC 20230; telephone: (202) 482-8029 or (202) 482-3019, respectively.

SUPPLEMENTARY INFORMATION:

Background

On August 1, 2013, the Department of Commerce (the Department) published in the Federal Register a notice of “Opportunity to Request Administrative Review” of the antidumping duty order on light-walled rectangular pipe and tube (LWR pipe and tube) from Mexico for the period of review (POR) of August 1, 2012, through July 31, 2013.¹ The Department received timely requests from two foreign producers, Maquilacero S.A. de C.V. (Maquilacero) and Regiomontana de Perfiles y Tubos S.A. de C.V. (Regiopytsa), filed in accordance with 19 CFR 351.213(b), for an administrative review of their shipments during the POR.² On September 13, 2013, Maquilacero withdrew its request for the administrative review.³ On October 2, 2013, the Department published a notice of initiation of an administrative review of the antidumping duty order on light-walled from Mexico with respect to Regiopytsa.⁴

¹ See Antidumping or Countervailing Duty Order, Finding, or Suspended Investigation; Opportunity To Request Administrative Review, 78 FR 46573 (August 1, 2013).

² See Letters to the Secretary of Commerce, from Maquilacero and Regiopytsa, titled “Request for Administrative Review,” both dated August 30, 2013.

³ See Letter to the Secretary of Commerce, from Maquilacero, titled “Withdrawal of Request for Review,” dated September 13, 2013.

⁴ See Initiation of Antidumping and Countervailing Duty Administrative Reviews and Request for Revocation in Part, 78 FR 60834 (October 2, 2013); see also, Initiation of Antidumping and Countervailing Duty Administrative Reviews and Request for Revocation in Part, 78 FR 67104 (November 8, 2013) (clarifying that the administrative review was initiated on Regiopytsa only as Maquilacero's withdrawal of review request preceded the October 2, 2013, initation.).

The Department stated in its initiation of this review that it intended to rely on U.S. Customs and Border Protection (CBP) data to select respondents.⁵ We released the results of our CBP data query to interested parties and invited them to comment on the CBP data.⁶ We received no comments on the CBP data.

⁵ Id.

⁶ See Memorandum to the File, from Edythe Artman, Case Analyst, regarding “Entry Data Obtained from U.S. Customs and Border Protection,” dated October 17, 2013.

Rescission of Review

19 CFR 351.213(d)(1) stipulates that the Secretary will rescind an administrative review under this section, in whole or in part, if a party that requested a review withdraws the request within 90 days of the date of publication of notice of initiation of the requested review. As the only party that requested a review (Regiopytsa) withdrew its request within 90 days of the date of publication of the notice of initiation of the requested review, we are rescinding this review of the antidumping duty order on light-walled from Mexico pursuant to 19 CFR 351.213(d)(1).⁷ In accordance with 19 CFR 356.8(a), the Department intends to issue assessment instructions to CBP 41 days after the date of publication of this notice of rescission of administrative review.

⁷ See Letter to the Secretary of Commerce, from Regiopytsa, titled “Request to Withdraw Administrative Review,” dated December 11, 2013.

This notice is published in accordance with section 751 of the Tariff Act of 1930, as amended, and 19 CFR 351.213(d)(4).

Dated: January 15, 2014.
Christian Marsh,
Deputy Assistant Secretary for Antidumping and Countervailing Duty Operations.

[FR Doc. 2014-01167 Filed 1-22-14; 8:45 am]

BILLING CODE 3510-DS-P